DEPARTMENT OF STATE

[Public Notice: 12006]

Notice of Department of State Sanctions Actions

SUMMARY: The Secretary of State has imposed sanctions on 46 individuals and three entities and identified one vessel as blocked property.

DATES: The Secretary of State's determination and imposition of sanctions on the 46 individuals, three entities, and one vessel identified in the SUPPLEMENTARY INFORMATION section were effective on December 15, 2022.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (i) to operate or have operated in the technology sector or the defense and related materiel sector of the Russian Federation economy, or any other sector of the Russian Federation economy as may be determined by the Secretary of the Treasury, in consultation with the Secretary of State. The Secretary of the Treasury, in consultation with the Secretary of State, determined that Section 1(a)(i) of E.O. 14024 shall apply to the financial services sector of the Russian Federation economy.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (C) an entity whose property and interests in property are blocked pursuant to this order.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (v) to be a spouse or adult child of any person whose property and interests in property are blocked pursuant to subsection (a)(ii) or (iii) of this section.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (A) the Government of the Russian Federation.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (vii) to be owned or controlled by, or to have acted or purported to act for or on behalf of, directly or indirectly, the Government of the Russian Federation or any person whose property and interests in property are blocked pursuant to this order.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (ii) to be responsible for or complicit in, or to have directly or indirectly engaged or attempted to engage in, any of the following for or on behalf of, or for the benefit of, directly or indirectly, the Government of the Russian Federation: (F) activities that undermine the peace, security, political stability, or territorial integrity of the United States, its allies, or its partners.

The Secretary of State has determined, pursuant to Section 1(a)(i) of E.O. 14024, that Kholdingovaya Kompaniya Interros OOO is operating or has operated in the financial services and aerospace sectors of the Russian Federation economy.

The Secretary of State has determined, pursuant to Section 1(a)(iii)(C) of E.O. 14024, that Vladimir Olegovich Potanin is or hase been a leader, official, senior executive officer, or member of the board of directors of an entity whose property and interests in property are blocked pursuant to E.O. 14024.

The Secretary of State has determined, pursuant to Section 1(a)(v) of E.O. 14024, that Artem Alexandrovich Uss, Andrey Yuryevich Vorobyev, Maxim Yuryevich Vorobyev, Ekaterina Viktorovna Potanina, Anastasia Vladimirovna Potanina, and Ivan Vladimirovich Potanin are spouses or adult children of persons whose property and interests in property are blocked pursuant to subsection (a)(ii) or (a)(iii) of Section 1 of E.O. 14024.

The Secretary of State has determined, pursuant to Section 1(a)(iii)(A) of E.O. 14024, that Aleksandr Vasilyevich Bogomaz, Alexander Viktorovich Gusev, Alexey Vladimirovich Ostrovskiy, Andrey Yuryevich, Vorobyev, Roman Vladimirovich Starovoyt, Vyacheslav Vladimirovich Gladkov, Vasiliy Yuryevich Golubev, Aleksandr Aleksandrovich Avdeyev, Andrey Ivanovich Bocharov, Aleksandr Yuryevich Drozdenko, Oleg Aleksandrovich Kuvshinnikov, Andrey Sergeyevich Nikitin, Andrey Aleksandrovich Travnikov, Denis Vladimirovich Pasler, Maksim Borisovich Egorov, Anton Andreyevich Alikhanov, Dmitriy Igorevich Azarov, Evgeniy Vladimirovich Kuyvashev, Igor Georgiyevich Artamonov, Alexander Viktorovich Uss, Aleksandr Viktorovich Moor, Aleksey Leonidovich Teksler, Viktor Petrovich Tomenko, Vladimir Vladimirovich Vladimirov, Radiy Faritovich Khabirov, Vladimir Viktorovich Uyba, Aysen Sergeyevich Nikolayev, Oleg Alekseyevich Nikolayev, Dmitriy Andreevich Artyukhov, Andrey Removich Belousov, Oleg Valentinovich Belozyorov, Dmitriy Nikolaevich Chernyshenko, Sergey Ottovich Frank, and Aleksey Valerevich Sazanov are or have been leaders, officials, senior executive officers, or members of the board of directors of the Government of the Russian Federation.

The Secretary of State has determined, pursuant to Section 1(a)(vii) of E.O. 14024, that Amereus Group PTE LTD is owned or controlled by, or has acted or purported to act for or on behalf of, directly or indirectly, the Government of the Russian Federation or any person whose property and interests in property are blocked pursuant to E.O. 14024.

The Secretary of State has determined, pursuant to Section 1(a)(ii)(F) of E.O. 14024, that Andrey Anatolyevich Alekseenko, Gennadiy Oleksandrovych Garkusha, Volodymyr Vitalyovych Lipandin, Oleksii Oleksandrovych Dykiy, Volodymyr Mykhailovych Bobryshev, Kateryna Yuriivna Gubareva, and Ministry of Emergency Situations of the Donetsk People's Republic are responsible for or complicit in, or have directly or indirectly engaged or attempted to engage in, activities that undermine the peace, security, political stability, or territorial integrity of the United States, its allies, or its partners for or on behalf of, or for the benefit of, directly or indirectly, the Government of the Russian Federation.

The following vessel subject to U.S. jurisdiction is blocked:

Nirvana (IMO: 1011202) (Linked To: Vladimir Olegovich Potanin)

Pursuant to Executive Order 14024 these persons and property have been added to the Specially Designated Nationals and Blocked Persons List. All property and interests in property of these persons subject to U.S. jurisdiction are blocked.

Whitney Baird,
Principal Deputy Assistant Secretary, Bureau of Economic and Business Affairs, Department of State.

[FR Doc. 2023-06090 Filed 3-23-23; 8:45 am]

BILLING CODE 4710-AE-P